DEPARTMENT OF LABOR

Employment and Training Administration

[TA-W-36,704]

Centrilift, Division of Baker Hughes; Denver, CO; Dismissal of Application for Reconsideration

Pursuant to 29 CFR 90.18(C) an application for administrative reconsideration was filed with the Director of the Division of Trade Adjustment Assistance for workers at the Centrilift, Division of Baker Hughes, Denver, Colorado. The application contained no new substantial information which would bear importantly on the Department's determination. Therefore, dismissal of the application was issued.

TA-W-36,407; Centrilift Division of Baker Hughes Denver, Colorado (February 22, 2000)

Signed at Washington, D.C. this 28th day of February, 2000.
Grant D. Beale,
Program Manager, Division of Trade Adjustment Assistance.

[FR Doc. 00-6379 Filed 3-14-00; 8:45 am]

BILLING CODE 4510-30-M